ENVIRONMENTAL PROTECTION AGENCY

40 CFR Parts 9, 141 and 142

[FRL-6576-1]

RIN 2040-AD43

Revisions to the Interim Enhanced Surface Water Treatment Rule (IESWTR), the Stage 1 Disinfectants and Disinfection Byproducts Rule (Stage 1 DBPR) and Revisions to State Primacy Requirements To Implement the Safe Drinking Water Act (SDWA) Amendments

AGENCY: Environmental Protection Agency (EPA).

ACTION: Proposed rule.

SUMMARY: EPA is proposing minor revisions to the Interim Enhanced Surface Water Treatment Rule (IESWTR) and the Stage 1 Disinfectant and Disinfection Byproducts Rule (Stage 1 DBPR) which were published December 16, 1998, and the Revisions to State Primacy Requirements to Implement the SDWA Amendments (Primacy Rule) published April 28, 1998. Today's proposed rule revises the compliance dates for the IESWTR and the Stage 1 DBPR. This change will shift the monitoring periods to coincide with calendar quarters which will facilitate the implementation of these rules. This proposed rule will also extend the use of new analytical methods included in the IESWTR and the Stage 1 DBPR to compliance monitoring for long standing drinking water regulations for total trihalomethanes. This proposed rule also includes several changes to the regulatory language for clarification. In the “Rules and Regulations” section of this Federal Register, EPA is also promulgating these changes as a direct final rule because we view this a noncontroversial revision and anticipate no adverse comments. We have explained our reasons in the preamble to the direct final rule. If we receive no adverse comment, we will not take further action on this proposed rule. If we receive adverse comment, we will withdraw the direct final rule and it will not take effect. We will address all public comments in a subsequent final rule based on this proposed rule. We will not institute a second comment period on this action. Any parties interested in commenting must do so at this time.

DATES: Written comments must be received by May 15, 2000.

ADDRESSES: Send written comments to the Comment Clerk, docket number W-99-11, Water Docket (MC 4101), U.S. Environmental Protection Agency, 401 M Street, SW, Washington, DC 20460. The record for this proposed rule is established under docket number W-99-11. The record is available for inspection from 9 a.m. to 4 p.m. Monday through Friday, excluding legal holidays at the Water Docket, East Tower Basement, US EPA, 401 M Street, SW, Washington DC. For access to docket materials, please call 202-260-3027 to schedule an appointment. Comments may be hand-delivered to the Water Docket, U.S. Environmental Protection Agency; 401 M Street SW, East Tower Basement, Washington, DC 20460. Comments may be submitted electronically to ow-docket@epamail.epa.gov. No facsimiles (faxes) will be accepted. See SUPPLEMENTARY INFORMATION section for further details about comment submission.

FOR FURTHER INFORMATION CONTACT: Jennifer Melch, Implementation and Assistance Division, Office of Ground Water and Drinking Water (MC-4606), U.S. Environmental Protection Agency, 401 M Street, SW, Washington DC 20460, (202) 260-7035. Information may also be obtained from the EPA Safe Drinking Water Hotline. Callers within the United States may reach the Hotline at (800) 426-4791. The Hotline is open Monday through Friday, excluding Federal holidays, from 9:00 a.m. to 5:30 p.m. EST.

SUPPLEMENTARY INFORMATION: This document concerns Revisions to the Interim Enhanced Surface Water Treatment Rule (IESWTR), the Stage 1 Disinfectants and Disinfection Byproducts Rule (DBPR), and the Primacy Rule. For further information, please see the information provided in the direct final action which is located in the “Rules and Regulations” section of this Federal Register publication. At times, EPA included text from current regulations to make the revisions to the tables easier to understand. These revisions are to §§ 141.132(b)(1)(i), 141.134(b)-(d), 141.135(b)(2), and are distinguished in the preamble to the direct final rule. EPA is not soliciting comment on any regulatory text that has not been revised and will not address any such comments.

Additional Information for Commenters

Please submit an original and three copies of your comments and enclosures (including references). Comments must be received or postmarked by May 15, 2000.

Commenters who want EPA to acknowledge receipt of their comments should enclose a self-addressed, stamped envelope. Electronic comments must be submitted as a WP5/6/7/8 file or an ASCII File, avoiding the use of special characters and form and encryption. Electronic comments must be identified by the docket number W-99-11.

List of Subjects in 40 CFR Parts 141 and 142

Environmental protection, Analytical methods, Drinking water, Intergovernmental relations, Public utilities, Reporting and recordkeeping requirements, Reservoirs, Utilities, Water supply, Watersheds.

Dated: April 4, 2000.
Carol M. Browner,
Administrator.

[FR Doc. 00-9090 Filed 4-13-00; 8:45 am]

BILLING CODE 6560-50-P